DEPARTMENT OF TRANSPORTATION

Federal Aviation Administration

14 CFR Part 71

[Docket No. FAA-2008-0661; Airspace Docket No. 08-AAL-19]

Establishment of Colored Federal Airways; Alaska

AGENCY: Federal Aviation Administration (FAA), DOT.

ACTION: Final rule.

SUMMARY: This action establishes Colored Federal Airway Blue 7 (B-7), in Alaska. This action adds to the Instrument Flight Rules (IFR) airway and route structure in Alaska by providing IFR connectivity between Cape Newenham, AK, and Bethel, AK. The FAA is taking this action to enhance safety and improve the management of air traffic operations in the State of Alaska.

DATES: Effective Dates: 0901 UTC, May 7, 2009. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

On October 30, 2008, the FAA published in the Federal Register a notice of proposed rulemaking (NPRM) to establish Federal Airway B-7 in Alaska (73 FR 64573). Interested parties were invited to participate in this rulemaking effort by submitting written comments on this proposal. No comments were received in response to the NPRM. Based on further analysis of publication requirements the description of B-7 will be reversed and listed from Cape Newenham to Oscarville instead of from Oscarville to Cape Newenham. With the exception of editorial changes, and the change described above, this amendment is the same as that proposed in the NPRM.

Colored Federal airways are published in paragraph 6009, of FAA Order 7400.9S signed October 3, 2008, and effective October 31, 2008, which is incorporated by reference in 14 CFR 71.1. The Colored Federal airway listed in this document will be published subsequently in the Order.6

The Rule

This action amends Title 14 Code of Federal Regulations (14 CFR) part 71 by establishing Colored Federal Airway B-7 between Cape Newenham and Bethel, AK. This action adds to the IFR airway and route structure in Alaska by providing IFR connectivity between Cape Newenham, AK, and Bethel, AK. The FAA is proposing this action to improve the management of air traffic operations in the State of Alaska and to enhance safety.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of airspace necessary to ensure the safety of aircraft and the efficient use of airspace. This regulation is within the scope of that authority as it will enhance aviation safety in the state of Alaska.

Environmental Review

The FAA has determined that this action qualifies for categorical exclusion under the National Environmental Policy Act in accordance with FAA Order 1050.1E, “Environmental Impacts: Polices and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9S, Airspace Designations and Reporting Points, signed October 3, 2008, and effective October 31, 2008, is amended as follows:

Paragraph 6009(d) Blue Federal Airways.

* * * * *

B-7 [New]

From Cape Newenham, AK, NDB, to the Oscarville, AK, NDB.

* * * * *

Issued in Washington, DC, on February 6, 2009.
Edith V. Parish,
Manager, Airspace and Rules Group.

[FR Doc. E9-3239 Filed 2-17-09; 8:45 am]

BILLING CODE 4910-13-P